DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety standards. The individual petition is described below, including the party seeking relief, the regulatory provisions involved, the nature of the relief being requested, and the petitioner's arguments in favor of relief.

Maryland Transit Administration

[Docket Number FRA-2007-28611]

The Maryland Transit Administration (MTA) seeks a permanent waiver of compliance from certain provisions of the Passenger Equipment Safety Standards of 49 CFR part 238, regarding the required periodic tests of locomotive brake equipment. This waiver is being requested for MTA's Maryland Area Rail Commuter (MARC) trains. Specifically, MARC requests that the electronic brake equipment used on their six HHP-8 electric locomotives be subject to the same provisions that are outlined in a waiver (FRA-2000-7367) that was granted to the National Railroad Passenger Corporation (Amtrak) for their KE-3.9 brake equipment (Computer Controlled Brake-brake equipment variant). This waiver extended the time requirements for the cleaning, repairing, and testing of brake components listed in section 238.309(c)(2) to a period not to exceed 5 years or 1,840 days.

MARC claims that the electronic brake equipment used on their HHP-8 locomotives is similar to the brake equipment installed on the Amtrak HHP-8 locomotives that have benefitted from a waiver similar to the one mentioned above for the past 5 years.

The six MARC locomotives for which the current waiver is being requested are operated and maintained by Amtrak. All tests and inspections of these locomotives are performed by Amtrak employees in Amtrak facilities. The MARC HHP-8 locomotives are equipped with an air quality (dryers and filters) system that meets current industry standards.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communications concerning these proceedings should identify the appropriate docket number (e.g., Waiver Petition Docket Number FRA-2007-28611) and must be submitted in triplicate to the Docket Clerk, DOT Central Docket Management Facility, 1200 New Jersey Avenue, SE., Room W12-140, Washington, DC 20590-0001.

Communications received within 45 days of the date of this notice will be considered by FRA before final action is taken. Comments received after that date will be considered as far as practicable. All written communications concerning these proceedings are available for examination during regular business hours (9 a.m.-5 p.m.) at DOT Central Docket Management Facility, 1200 New Jersey Avenue, SE., West Building Ground Floor, Room W12-140, Washington, DC 20590-0001. All documents in the public docket are also available for inspection and copying on the Internet at the docket facility's Web site at http://dms.dot.gov.

Issued in Washington, DC, on July 30, 2007.
Grady C. Cothen, Jr.,
Deputy Associate Administrator for Safety Standards and Program Development.

[FR Doc. E7-15148 Filed 8-2-07; 8:45 am]

BILLING CODE 4910-06-P